DEPARTMENT OF TRANSPORTATION

Federal Aviation Administration

[Summary Notice No. PE-2001-35]

Petitions for Exemption, Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on April 30, 2001.
Donald P. Byrne,
Assistant Chief Counsel for Regulations.

Dispositions of Petitions

Docket No.: FAA-2001-9010.

Petitioner: Kitty Hawk Charters, Inc.

Section of 14 CFR Affected: 14 CFR 135.143(c)(2).

Description of Relief Sought/Disposition: To permit Kitty Hawk to operate certain aircraft under part 135 without a TSO-C112 (Mode S) transponder installed in the aircraft. Grant, 04/16/2001, Exemption No. 7506.

Docket No.: FAA-2001-8787.

Petitioner: Flight Alaska, Inc.

Section of 14 CFR Affected: 14 CFR 135.143(c)(2).

Description of Relief Sought/Disposition: To permit Flight Alaska to operate certain aircraft under part 135 without a TSO-C112 (Mode S) transponder installed in the aircraft. Grant, 04/16/2001, Exemption No. 7505.

Docket No.: FAA-2001-8865.

Petitioner: Corporate Air, LLC.

Section of 14 CFR Affected: 14 CFR 135.143(c)(2).

Description of Relief Sought/Disposition: To permit Corporate Air to operate certain aircraft under part 135 without a TSO-C112 (Mode S) transponder installed in the aircraft. Grant, 04/12/2001, Exemption No. 7498.

Docket No.: FAA-2001-9033.

Petitioner: Silverhawk Aviation, Inc.

Section of 14 CFR Affected: 14 CFR 135.143(c)(2).

Description of Relief Sought/Disposition: To permit Silverhawk to operate certain aircraft under part 135 without a TSO-C112 (Mode S) transponder installed in the aircraft. Grant, 04/12/2001, Exemption No. 7499.

Docket No.: FAA-2001-9105.

Petitioner: Ameristar Jet Charter, Inc.

Section of 14 CFR Affected: 14 CFR 135.13(c)(2).

Description of Relief Sought/Disposition: To permit Ameristar to operate certain aircraft under part 135 without a TSO-C112 (Mode S) transponder installed in the aircraft. Grant, 04/12/2001, Exemption No. 7500.

Docket No.: FAA-2001-9031.

Petitioner: Houston Helicopters, Inc.

Section of 14 CFR Affected: 14 CFR 135.143(c)(2).

Description of Relief Sought/Disposition: To permit HHI to operate certain aircraft under part 135 without a TSO-C112 (Mode S) transponder installed in the aircraft. Grant, 04/12/2001, Exemption No. 7501.

Docket No.: FAA-2001-9100.

Petitioner: Tex-Air Helicopters, Inc.

Section of 14 CFR Affected: 14 CFR 135.143(c)(2).

Description of Relief Sought/Disposition: To permit Tex-Air to operate certain aircraft under part 135 without a TSO-C112 (Mode S) transponder installed in the aircraft. Grant, 04/12/2001, Exemption No. 7502.

Docket No.: FAA-2001-8871.

Petitioner: Mentone Flying Club, Inc.

Section of 14 CFR Affected: 14 CFR 135.231, 135.255, 135.353, and appendixes I and J to part 121.

Description of Relief Sought/Disposition: To permit Mentone to conduct sightseeing flights at Fulton County Airport for the one-day Round Barn Festival charitable event in June 2001, for compensation or hire, without complying with certain anti-drug and alcohol misuse prevention requirements of part 135. Grant, 04/12/2001, Exemption No. 7503.

Docket No.: FAA-2001-9081.

Petitioner: Helicopter Experts, Inc.

Section of 14 CFR Affected: 14 CFR 135.143(c)(2).

Description of Relief Sought/Disposition: To permit HEI to operate certain aircraft under part 135 without a TSO-C112 (Mode S) transponder installed in the aircraft. Grant, 04/12/2001, Exemption No. 7497.

Docket No.: FAA-2001-9166 (previously Docket No. 30076).

Petitioner: TACA International Airlines.

Section of 14 CFR Affected: 14 CFR 121.344(b).

Description of Relief Sought/Disposition: To permit TAI to operate five Airbus A300 airplanes (Registration Nos. N59106, N59107, N59139, N59140, and N68142) without installing the required DFDR on each airplane until August 20, 2001. Grant, 04/17/2001, Exemption No. 7350A.

Docket No.: FAA-2001-9166 (previously Docket No. 28828).

Petitioner: North American Airlines Inc.

Section of 14 CFR Affected: 14 CFR 119.67(a)(1).

Description of Relief Sought/Disposition: To permit Edward F. Dascoli to act as the Director of Operations for NAA without holding an airline transport pilot certificate. Grant, 04/13/2001, Exemption No. 7510.

[FR Doc. 01-11260 Filed 5-3-01; 8:45 am]

BILLING CODE 4910-13-M